DEPARTMENT OF COMMERCE

National Oceanic and Atmospheric Administration

50 CFR Part 635

RIN 0648-XC812

Atlantic Highly Migratory Species; 2006 Consolidated Highly Migratory Species Fishery Management Plan; Amendment 7

AGENCY: National Marine Fisheries Service (NMFS), National Oceanic and Atmospheric Administration (NOAA), Department of Commerce.

ACTION: Notice of public hearings.

SUMMARY: NMFS will publish a proposed rule for Draft Amendment 7 to the 2006 Consolidated Highly Migratory Species (HMS) Fishery Management Plan (FMP) to control bluefin incidental catch (landings and dead discards) in the pelagic longline fishery, enhance reporting in all categories, and ensure U.S. compliance with the ICCAT-recommend quota. As described in the proposed rule, the proposed measures include Allocation measures, Area-Based measures, Bluefin Quota Controls, Enhanced Reporting measures, and other measures that modify rules with respect to how the various quota categories utilize quota. In this notice, NMFS announces the dates and logistics for 10 public hearings to provide additional opportunities for members of the public to comment on the bluefin management measures proposed in Draft Amendment 7. NMFS will also consult with the HMS Advisory Panel during its meeting scheduled September 9-12, 2013. There will be opportunities for public comment during open sessions held each day of the Advisory Panel meeting.

DATES: Written comments will be accepted until October 23, 2013. Public hearings, an advisory panel meeting, and council consultations will be held between August 1, 2013 to October 31, 2013, to present information about Amendment 7 and to provide opportunities for the submission of public comment regarding the proposed rule. See SUPPLEMENTARY INFORMATION for meeting dates, times, and locations.

ADDRESSES: A total of ten public hearings will be held along the Atlantic and Gulf coasts to provide the opportunity for public comment. NMFS will also hold an HMS Advisory Panel meeting in Silver Spring, MD, during which there will be opportunities for public comment (78 FR 44095). See SUPPLEMENTARY INFORMATION for dates, times, and locations.

You may submit comments on the proposed rule identified by “NOAA-NMFS-2013-0101,” by any of the following methods:

• Electronic Submissions: Submit all electronic public comments via the Federal eRulemaking Portal. Go to www.regulations.gov/#!docketDetail;D=NOAA-NMFS-2013-0101, click the “Comment Now!” icon, complete the required fields, and enter or attach your comments. Do not submit electronic comments to individual NMFS staff

• Mail: Submit written comments to: Thomas Warren, Highly Migratory Species Management Division, NMFS, 55 Great Republic Drive, Gloucester, MA 01930. Please mark the outside of the envelope “Comments on Amendment 7 to the HMS FMP.”

• Fax: 978-281-9347, Attn: Thomas Warren.

• Instructions: Comments must be submitted by one of the above methods to ensure that the comments are received, documented, and considered by NMFS. Comments sent by any other method, to any other address or individual, or received after the end of the comment period, may not be considered. All comments received are a part of the public record and generally will be posted for public viewing on www.regulations.gov without change. All Personal Identifying Information (for example, name, address, etc.), confidential business information, or otherwise sensitive information submitted voluntarily by the sender will be publicly accessible. Do not submit Confidential Business Information or otherwise sensitive or protected information. NMFS will accept anonymous comments (enter “N/A” in the required fields, if you wish to remain anonymous). You may submit attachments to electronic comments in Microsoft Word or Excel, WordPerfect, or Adobe PDF file formats only.

FOR FURTHER INFORMATION CONTACT: Thomas Warren or Brad McHale at 978-281-9260; Craig Cockrell or Jennifer Cudney at 301-427-8503.

SUPPLEMENTARY INFORMATION: The North Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations, as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Copies of the 2006 Consolidated HMS FMP and previous amendments are available from the Highly Migratory Species Management Division Web page at http://www.nmfs.noaa.gov/sfa/hms/hmsdocument_files/FMPs.htmhttp://www.nmfs.noaa.gov/sfa/hms/hmsdocument_files/FMPs.htm or from NMFS on request (see FOR FURTHER INFORMATION CONTACT).

NMFS will publish Draft Amendment 7 to the 2006 Consolidated Highly Migratory Species (HMS) Fishery Management Plan (FMP) to control bluefin landings and dead discards in the pelagic longline fishery, enhance reporting in all categories, and ensure U.S. compliance with the ICCAT-recommend quota. As described in the proposed rule, the proposed management measures include: (1) Allocation measures that would make modifications to how the U.S. bluefin quota is allocated among the quota categories; (2) area-based measures that would implement restrictions on the use of pelagic longline gear in various time and area combinations, modify gear restrictions, or provide conditional access to current pelagic longline closed areas; (3) bluefin Quota Controls that would strictly limit the total catch (landings and dead discards) of bluefin in the Longline category using different strategies; (4) enhanced reporting measures that would implement a variety of new bluefin reporting requirements; and (5) other Measures that would make modifications to the rules that control how the various quota categories utilize quota, and implement a northern albacore tuna quota.

Request for Comments: A total of ten public hearings will be held along the Atlantic and Gulf of Mexico coasts to provide the opportunity for public comment on potential management measures. See Table 1 for dates, times and locations of public hearings. NMFS will also consult with the HMS Advisory Panel on September 9-12, 2013 (78 FR 44095). There will be opportunities for public comment during open sessions held each day of the Advisory Panel meeting. See the following Web site for additional details on the Advisory Panel meeting, including the agenda, presentations and outreach materials (typically available the week before the meeting): http://www.nmfs.noaa.gov/sfa/hms/Advisory%20Panels/Advisory_Panel.htm

NMFS has also requested time on the meeting agendas of the relevant Regional Fishery Management Councils (i.e., the Caribbean, Gulf of Mexico, South Atlantic, Mid-Atlantic, and New England Fishery Management Councils) to present information on the proposed rule and draft Amendment 7. Information on the date and time of those presentations will be provided on the appropriate council agendas.

Table 1—Dates, Times and Locations of Upcoming Public Hearings
Venue | Date/Time | Meeting locations | Location contact information
Public Hearing in association with the Gulf of Mexico Fishery Management Council meeting) | August 28, 2013, 6 p.m.-10 p.m | San Antonio, TX | Hilton Palacio Del Rio, 200 S. Alamo, San Antonio, TX 78205, (210) 222-1400.
Public Hearing | September 4, 2013, 6 p.m.-10 p.m | Gloucester, MA | National Marine Fisheries Service, Northeast Regional Office, 55 Great Republic Drive, Gloucester, MA 01930.
Public Hearing | September 18, 2013, 6 p.m.-10 p.m | Manteo, NC | Community Auditorium, College of the Albemarle, 132 Russell Twiford Road, Manteo, NC 27954, (252) 473-2264.
Public Hearing | September 19, 2013, 6 p.m.-10 p.m | Charleston, SC | Center for Coastal and Environmental Health and Biomolecular Research—National Ocean Service, 219 Fort Johnson Road, Charleston, SC 29412.
Public Hearing | September 24, 2013, 6 p.m.-10 p.m | Belle Chasse, LA | Plaquemines Parish Government Community Center (Belle Chasse Auditorium), 8398 Hwy. 23, Belle Chasse, LA 70037, (504) 208-1320.
Public Hearing | September 26, 2013, 6 p.m.-10 p.m | Portland, ME | Gulf of Maine Research Institute, 350 Commercial Street, Portland, ME 04901, (207) 772-2321.
Public Hearing | September 30, 2013, 6 p.m.-10 p.m | Panama City, FL | Bay County Public Library, 898 W. 11th St., Panama City, FL 32401, (850) 552-2100.
Public Hearing | October 1, 2013, 6 p.m.-10 p.m | Fort Pierce, FL | Days Inn Fort Pierce, 3224 U.S. 1, Fort Pierce, FL 34982, (772) 465-7000.
Public Hearing | October 2, 2013, 6 p.m.-10 p.m | St. Petersburg, FL | National Marine Fisheries Service, Southeast Regional Office, 263 13th Avenue South, Saint Petersburg, FL 33701, (727) 824-5301.
Public Hearing | October 8, 2013, 6 p.m.-10 p.m | Toms River, NJ | Ocean County, Public Administration Building, Freeholders Meeting Room (119), 101 Hooper Ave., Toms River, NJ 08754, (732) 929-2147.

Public Hearing Code of Conduct

The public is reminded that NMFS expects participants at public hearings and the HMS Advisory Panel meeting to conduct themselves appropriately. At the beginning of each meeting, a representative of NMFS will explain the ground rules (e.g., alcohol is prohibited from the meeting room; attendees will be called to give their comments in the order in which they registered to speak; each attendee will have an equal opportunity to speak; attendees may not interrupt one another; etc.). NMFS representative(s) will structure the meeting so that all attending members of the public will be able to comment, if they so choose, regardless of the controversial nature of the subject(s). Attendees are expected to respect the ground rules, and those that do not will be asked to leave the meeting.

Authority: 16 U.S.C. 1801 et seq.

Dated: August 19, 2013.
Emily H. Menashes,
Deputy Director, Office of Sustainable Fisheries, National Marine Fisheries Service.

[FR Doc. 2013-20513 Filed 8-20-13; 8:45 am]

BILLING CODE 3510-22-P